DEPARTMENT OF COMMERCE

International Trade Administration

[A-580-825]

Oil Country Tubular Goods From Korea: Extension of Time Limit for Preliminary Results of New Shipper Antidumping Duty Administrative Review

AGENCY: Import Administration, International Trade Administration, Department of Commerce.

ACTION: Notice of extension of time limit for preliminary results of new shipper review.

EFFECTIVE DATE: September 5, 2001.

FOR FURTHER INFORMATION CONTACT: Michael Strollo or Dana Mermelstein, AD/CVD Enforcement, Import Administration, International Trade Administration, U.S. Department of Commerce, 14th Street and Constitution Avenue, NW., Washington DC 20230; telephone: (202) 482-5255 or (202) 482-1391, respectively.

The Applicable Statute

Unless otherwise indicated, all citations to the statute are references to the provisions effective January 1, 1995, the effective date of the amendments made to the Tariff Act of 1930 (the Act) by the Uruguay Round Agreements Act. In addition, unless otherwise indicated, all citations to the Departments's regulations are to the current regulations, codified at 19 CFR part 351 (2001).

Background

On February 28, 2001, the Department of Commerce (the Department) received a properly filed request from Shinho Steel Company (Shinho) for a new shipper administrative review of the antidumping duty order on oil country tubular goods from Korea. On April 9, 2001, the Department published a notice of initiation of this administrative review, covering the period of August 1, 2000 through February 28, 2001 (66 FR 18438).

Extension of Time Limits for Preliminary Results

This is the first review of this order concerning Shinho. There are several complex issues, including the selection of a comparison market and the request for a constructed export price offset. As such, it is not practicable to complete this review within the time limits mandated by section 751(a)(2)(B) of the Act. Therefore, we are extending the due date for the preliminary results until January 28, 2002 pursuant to section 751(a)(2)(B)(iv) of the Act. The final results will be due 90 days after the issuance of the preliminary results, unless extended.

August 29, 2001.
Joseph A. Spetrini,
Deputy Assistant Secretary, AD/CVD Enforcement Group III.

[FR Doc. 01-22276 Filed 9-4-01; 8:45 am]

BILLING CODE 3510-DS-P